DEPARTMENT OF COMMERCE

International Trade Administration

[A-580-841]

Structural Steel Beams From the Republic of Korea: Extension of Final Results of the Antidumping Duty Administrative Review

AGENCY: Import Administration, International Trade Administration, Department of Commerce.

ACTION: Notice of postponement for the final determination of the antidumping duty administrative review.

SUMMARY: The Department of Commerce (“the Department”) is extending the time limit for the final results of the antidumping duty administrative review of structural steel beams (“SSB”) from the Republic Korea.

EFFECTIVE DATE: November 12, 2003.

FOR FURTHER INFORMATION CONTACT: Aishe Allen or Michael Holton, AD/CVD Enforcement Group III, Office 9, Import Administration, International Trade Administration, U.S. Department of Commerce, 14th Street and Constitution Avenue, NW., Washington, DC 20230; telephone: (202) 482-0172 or (202) 482-1324, respectively.

Background

On September 25, 2002, the Department published a notice of initiation of this antidumping duty administrative review for the period of August 1, 2001 through July 31, 2002. See Initiation of Antidumping and Countervailing Duty Administrative Reviews, Requests for Revocation in Part and Deferral of Administrative Reviews 67 FR 60210 (September 25, 2002).

On September 9, 2003, the Department published the preliminary results of antidumping duty administrative review. See Preliminary Results of Antidumping Duty Administrative Review: Structural Steel Beams from the Republic of Korea, 68 FR 53129 (September 9, 2003) (“Preliminary Results”). In the Preliminary Results we stated that we would make our final determination for the antidumping duty administrative review no later than 120 days after the date of publication of the preliminary results, or not later than January 7, 2004.

Extension of Time Limit for Final Results

Section 751(a)(3)(A) of the Tariff Act of 1930, as amended (“the Act”), states that if it is not practicable to complete the review within the time specified, the administrating authority may extend the 120-day period, following the date publication of the preliminary results, to issues its final results by an additional 60 days. Completion of the final results within the 120-day period is not practicable due to the complexity of DSM's affiliation issue and INI's ordinary course of trade issue.

Therefore, in accordance with section 751(a)(3)(A) of the Act, the Department is extending the time limit for completion of these final results to by 30 days until no later than February 6, 2003.

Dated: November 4, 2003.
Joseph Spetrini,
Deputy Assistant Secretary for Import Administration, Group III.

[FR Doc. 03-28337 Filed 11-10-03; 8:45 am]

BILLING CODE 3510-DS-P